DEPARTMENT OF TRANSPORTATION

Office of the Secretary

Aviation Proceedings, Agreements Filed the Week Ending March 14, 2008

The following Agreements were filed with the Department of Transportation under the Sections 412 and 414 of the Federal Aviation Act, as amended (49 U.S.C. 1383 and 1384) and procedures governing proceedings to enforce these provisions. Answers may be filed within 21 days after the filing of the application.

Docket Number: DOT-OST-2008-0090.

Date Filed: March 10, 2008.

Parties: Members of the International Air Transport Association.

Subject: TC12 North Atlantic-Middle East (except between USA and Jordan) Resolutions and Specified Fares Tables (Memo 0279) Minutes: TC12 North, Mid, South Atlantic-Middle East TC12 North, Mid, South Atlantic-Africa (Memo 0283/0267) Intended effective date: 1 April 2008.

Docket Number: DOT-OST-2008-0091.

Date Filed: March 10, 2008.

Parties: Members of the International Air Transport Association.

Subject: TC12 North Atlantic-Middle East between USA and Jordan Resolutions and Specified Fares Tables (Memo 0280) Minutes: TC12 North, Mid, South Atlantic-Middle East TC12 North, Mid, South Atlantic-Africa (Memo 0283/0267) Intended effective date: 1 April 2008.

Docket Number: DOT-OST-2008-0092.

Date Filed: March 10, 2008.

Parties: Members of the International Air Transport Association.

Subject: TC12 Mid Atlantic-Middle East Resolutions and Specified Fares Tables (Memo 0281) Minutes: TC12 North, Mid, South Atlantic-Middle East TC12 North, Mid, South Atlantic-Africa (Memo 0283/0267) Intended effective date: 1 April 2008.

Docket Number: DOT-OST-2008-0093.

Date Filed: March 10, 2008.

Parties: Members of the International Air Transport Association.

Subject: TC12 South Atlantic-Middle East Resolutions and Specified Fares Tables (Memo 0282) Minutes: TC12 North, Mid, South Atlantic—Middle East TC12 North, Mid, South Atlantic—Africa (Memo 0283 / 0267) Intended effective date: 1 April 2008.

Docket Number: DOT-OST-2008-0094.

Date Filed: March 10, 2008.

Parties: Members of the International Air Transport Association.

Subject: PTC COMP Mail Vote 561 Resolution 011b Global Indicators (Memo 1459) Intended effective date: 1 April 2008.

Docket Number: DOT-OST-2008-0096.

Date Filed: March 11, 2008.

Parties: Members of the International Air Transport Association.

Subject: PSC/RESO/141 dated February 8, 2007 Finally Adopted Resolutions & Recommended Practices r1-r33 PSC/MINS/023 dated February 28, 2006 MINUTES Intended effective date: June 1, 2008.

Docket Number: DOT-OST-2008-0097.

Date Filed: March 11, 2008.

Parties: Members of the International Air Transport Association.

Subject: Mail Vote 560—Resolution 002af TC23/123 Europe-Japan, Korea Special Passenger Revalidating Resolution 002af Between Europe and Korea (Rep. of Korea People's Dem. Rep. of) (Memo 0166) Intended effective date: 1 April 2008.

Docket Number: DOT-OST-2008-0098.

Date Filed: March 11, 2008.

Parties: Members of the International Air Transport Association.

Subject: Mail Vote 563 TC23 Middle East-Japan, Korea Special Passenger Amending Resolutions and Specified Fares Tables between Middle East and Japan, Korea (Rep. of) (Memo 0368) Intended effective date: 1 April 2008.

Docket Number: DOT-OST-2008-0099.

Date Filed: March 11, 2008.

Parties: Members of the International Air Transport Association.

Subject: Mail Vote 562 TC23 Africa-Japan, Korea Special Passenger Amending Resolutions and Specified Fares Tables Between Africa and Japan, Korea (Rep. of), Korea (Dem. Rep. of) (Memo 0366) Intended effective date: 1 April 2008.

Renee V. Wright,
Program Manager, Docket Operations, Federal Register Liaison.

[FR Doc. E8-10058 Filed 5-6-08; 8:45 am]

BILLING CODE 4910-9X-P